DEPARTMENT OF THE INTERIOR

Fish and Wildlife Service

[FWS-R4-ES-2013-N118; FXES11130400000C2-134-FF04E00000]

Endangered and Threatened Wildlife and Plants; Technical Agency Draft Recovery Plan for Golden Sedge

AGENCY: Fish and Wildlife Service, Interior.

ACTION: Notice of availability and request for public comment.

SUMMARY: We, the Fish and Wildlife Service, announce the availability of the technical agency draft recovery plan for the endangered golden sedge, a species endemic to the coastal plain in North Carolina. The draft recovery plan includes specific recovery objectives and criteria to be met in order to downlist this species to threatened or delist it under the Endangered Species Act of 1973, as amended (Act). We solicit review and comment on this draft recovery plan from local, State, and Federal agencies, and the public.

DATES: In order to be considered, comments on the draft recovery plan must be received on or before August 19, 2013.

ADDRESSES: If you wish to review the draft recovery plan, you may obtain a copy by contacting the Raleigh Ecological Services Field Office, U.S. Fish and Wildlife Service, 551-F Pylon Drive, Raleigh, NC 27606; tel. 919-856-4520, or by visiting our recovery plan Web site at http://endangered.fws.gov/recovery/index.html#plans. If you wish to comment, you may submit your comments by any one of several methods:

1. You may submit written comments and materials to the Field Supervisor, at the above address.

2. You may hand-deliver written comments to our Raleigh Field Office, at the above address, or fax them to 919-856-4556.

3. You may send comments by email to dale_suiter@fws.gov.

For additional information about submitting comments, see the “Public Comments Solicited” section below.

FOR FURTHER INFORMATION CONTACT: Dale Suiter at the above address or by telephone at 919-856-4520, ext. 18.

SUPPLEMENTARY INFORMATION:

Background

We listed golden sedge (Carex lutea) as an endangered species under the Act (16 U.S.C. 1531 et seq.), on January 23, 2002 (67 FR 3120). This species is a rare perennial member of the sedge family (Cyperaceae) endemic to the coastal plain of North Carolina. It is currently known from only 21 extant occurrences (specific locations or sites) located within a 16-by-5-mile area in Pender and Onslow Counties. All eight populations of this plant occur in the Northeast Cape Fear River watershed in North Carolina.

Factors contributing to its endangered status are an extremely limited range and loss of habitat. The primary threat is the loss or alteration of habitat from fire suppression; residential, commercial, or industrial development; livestock grazing; and woody or invasive encroachment.

Restoring an endangered or threatened animal or plant to the point where it is again a secure, self-sustaining member of its ecosystem is a primary goal of the endangered species program. To help guide the recovery effort, we prepare recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We will consider all information presented during a public comment period prior to approval of each new or revised recovery plan. We and other Federal agencies will take these comments into account in the course of implementing approved recovery plans.

The objective of this technical agency draft plan is to provide a framework for the recovery of this species so that protection under the Act is no longer necessary.

Golden sedge will be considered for reclassification to threatened status when:

1. There are 10 protected Carex lutea sites in the wild that are distributed across the range of the species. Note: Sites will be considered permanently protected when they are placed under a conservation easement, or other binding land agreement, and a management agreement, and are ranked as an A or B population by the North Carolina Natural Heritage Program (NCNHP).

2. All 10 protected sites are composed of at least 90 percent native vegetation, and nonnative plant species that have the potential to displace Carex lutea are maintained at or below 10 percent of both total number of species and percent cover for at least 5 years.

3. All 10 protected sites demonstrate stable or increasing population trends for 5 consecutive years.

4. Habitat management plans are actively being implemented for at least 7 of the 10 protected sites.

5. A prescribed fire regime has been developed and is being conducted at all protected sites to mimic historical frequency and timing (the frequency will be determined through recovery actions in this plan).

We define “protected” to mean the site has been fee simple acquired and put into long-term conservation by a local or State agency, or a conservation easement or other binding land agreement has been placed on the site by a landowner that shows a commitment to its conservation in perpetuity and it is represented in a CPC-approved seed bank. In addition, each site should have a management agreement/plan developed. These plans should include monitoring according to protocols developed collaboratively by the USFWS, NCDACS, NCDPR, TNC, and other interested parties and should occur annually at each protected site. Each site should contain an A or B ranked occurrence (see Appendix C). For delisting to be considered, we would like to have at least seven of the protected sites to be “A-ranked” occurrences.

Carex lutea will be considered for removal from the List of Endangered and Threatened Species (delisting) when:

1. There are 15 protected sites in the wild that are distributed across the range of the species. Note: Sites will be considered permanently protected when they are placed under a conservation easement or other binding land agreement and a management agreement, and are ranked as an A or B population by the North Carolina Natural Heritage Program (NCNHP).

2. All 15 protected sites are composed of at least 90 percent native vegetation, and nonnative plant species that have the potential to displace Carex lutea are maintained at or below 10 percent of both total number of species and percent cover for at least 5 years within the recovery site.

3. All 15 protected sites demonstrate stable or increasing population trends for 10 consecutive years.

4. Habitat management plans are actively being implemented for all protected sites and are showing evidence that actions are proving effective for this plant.

5. A prescribed fire regime is being conducted at all protected sites to mimic historical frequency and timing (which will be determined through recovery actions in this plan).

As reclassification and recovery criteria are met, the status of the species will be reviewed and it will be considered for reclassification or removal from the Federal List of Endangered and Threatened Species.

Request for Public Comments

We request written comments on the draft recovery plan. We will consider all comments received by the date specified in DATES section above prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

Authority: The authority for this action is section 4(f) of the Endangered Species Act, 16 U.S.C. 1533(f).

Dated: April 26, 2013.
Mike Oetker,
Acting Regional Director, Southeast Region.

[FR Doc. 2013-14425 Filed 6-17-13; 8:45 am]

BILLING CODE 4310-55-P